DEPARTMENT OF HEALTH AND HUMAN SERVICES

Centers for Medicare & Medicaid Services

[CMS-5505-N3]

Medicare Program; Announcement of a New Opportunity for Participation in the Advance Payment Model for Accountable Care Organizations (ACOs)

AGENCY: Centers for Medicare & Medicaid Services (CMS), HHS.

ACTION: Notice.

SUMMARY: This notice announces a new opportunity for participation in the Advance Payment Model for certain accountable care organizations participating in the Medicare Shared Savings Program scheduled to begin in January 2013.

DATES: Application Submission Deadline for the Advance Payment Model: Applications for the performance period beginning on January 1, 2013 will be accepted from August 1, 2012 through September 19, 2012.

FOR FURTHER INFORMATION CONTACT: Maria Alexander, (410) 786-4792.

SUPPLEMENTARY INFORMATION:

I. Background

The Centers for Medicare & Medicaid Services (CMS) is committed to achieving better health for populations, better health care for individuals, and lower growth in expenditures through continuous improvement for Medicare, Medicaid, and Children's Health Insurance Program beneficiaries. One potential mechanism for achieving these goals is for CMS to partner with groups of health care providers of services and suppliers that have a mechanism for shared governance and have formed an Accountable Care Organization (ACO) through which they work together to coordinate care for a specified group of patients. We will pursue such partnerships through complementary efforts, including the Medicare Shared Savings Program and initiatives undertaken by the Center for Medicare and Medicaid Innovation (Innovation Center).

The Advance Payment Model is an Innovation Center initiative designed for participants in the Medicare Shared Savings Program in need of prepayment of expected shared savings to build their capacity to provide high quality, coordinated care and generate cost savings. The Advance Payment Model will test whether and how prepaying a portion of future shared savings could increase participation in the Medicare Shared Savings Program, and whether advance payments will enhance the ability of ACOs to effectively coordinate care and generate Medicare savings, as well as the speed at which they attain that goal.

In the November 2, 2011 Federal Register (76 FR 68012), we published a notice entitled “Medicare Program; Advance Payment Model” that announced the testing of the Advance Payment Model for certain ACOs participating in the Medicare Shared Savings Program scheduled to begin in 2012 and provided information about the Advance Payment Model and the application process. In November 30, 2011 Federal Register (76 FR 74067), we published a second notice that extended the application deadline for the first performance period that began on April 1, 2012. We announced the organizations participating in the Advanced Payment Model for the first performance period (which began on April 1, 2012) on April 10, 2012. The second performance period of the Advance Payment Model will begin on July 1, 2012.

Additional information about the Advance Payment Model, including organizations currently participating in the testing of the Model, is available on the Advance Payment Model Web site at http://www.innovations.cms.gov/initiatives/ACO/Advance-Payment/.

II. Provisions of the Notice

We will be launching a third group of Advance Payment Model ACOs on January 1, 2013. We will accept applications as specified in the DATES section of this notice. We are creating this new opportunity in response to requests from stakeholders and potential partners who requested additional opportunities to partner with CMS as Advance Payment ACOs.

Organizations interested in applying to the Advance Payment Model must also complete an application for the Shared Savings Program. Information about the application process and deadlines for the Shared Savings Program is available at http://www.cms.gov/sharedsavingsprogram. Additional information about the application process for the Advance Payment Model is available on the Advance Payment Model Web site at http://www.innovations.cms.gov/initiatives/ACO/Advance-Payment/.

Authority: Section 1115A of the Social Security Act.

Dated: June 19, 2012.
Marilyn Tavenner,
Acting Administrator, Centers for Medicare & Medicaid Services.

[FR Doc. 2012-15541 Filed 6-22-12; 11:15 am]

BILLING CODE 4120-01-P